FEDERAL MARITIME COMMISSION

Guidelines for Ensuring and Maximizing the Quality, Objectivity, Utility, and Integrity of Information Disseminated by Federal Agencies

AGENCY: Federal Maritime Commission.

ACTION: Notice of availability of Draft Information Quality Guidelines.

SUMMARY: Pursuant to section 515 of the Treasury and General Government Appropriations Act for Fiscal Year 2001 (Pub. L. 106-554, 114 Stat. 2763) and guidelines issued by the Office of Management and Budget (“OMB”), the Federal Maritime Commission (“Commission”) has published draft Information Quality Guidelines (“Guidelines”) on its Web site at www.fmc.gov. The draft Guidelines set forth the Commission's policies and programs for ensuring and maximizing the quality, objectivity, utility, and integrity of certain information disseminated to the public. Following its review of any comments received, and making any appropriate changes, the Commission will send the final draft of its Guidelines to OMB for review. The Commission's final Guidelines will then be published in the Federal Register and posted on the agency's Web site.

DATES: Submit an original and 15 copies of comments (paper), or e-mail comments as an attachment in WordPerfect 8, Microsoft Word 97, or earlier versions of these applications, no later than June 13, 2002.

ADDRESSES: Address all comments concerning the draft Guidelines to: Bryant L. VanBrakle, Secretary, Federal Maritime Commission, 800 North Capitol Street, NW, Room 1046, Washington, DC 20573-0001. E-mail: secretary@fmc.gov.

FOR FURTHER INFORMATION CONTACT: Bryant L. VanBrakle, Secretary, Federal Maritime Commission, 800 North Capitol Street, NW, Room 1046, Washington, DC 20573-0001. E-mail: secretary@fmc.gov.

By the Commission.
Theodore A. Zook,
Assistant Secretary.

[FR Doc. 02-13557 Filed 5-29-02; 8:45 am]

BILLING CODE 6730-01-P